DEPARTMENT OF HEALTH AND HUMAN SERVICES

National Institutes of Health

Clinical Center; Notice of Closed Meeting

Pursuant to section 10(d) of the Federal Advisory Committee Act, as amended, notice is hereby given of a meeting of the Board of Scientific Counselors of the NIH Clinical Center.

The meeting will be closed to the public as indicated below in accordance with the provisions set forth in section 552b(c)(6), Title 5 U.S.C., as amended for the review, discussion, and evaluation of individual intramural programs and projects conducted by the Clinical Center, including consideration of personnel qualifications and performance, and the competence of individual investigators, the disclosure of which would constitute a clearly unwarranted invasion of personal privacy.

Name of Committee: Board of Scientific Counselors of the NIH Clinical Center.

Date: April 24, 2023.

Time: 10:00 a.m. to 5:00 p.m.

Agenda: Department of Bioethics Presentations, Interviews and other business of the Board.

Place: Clinical Center, 10 Center Drive, Bethesda, MD 20892 (Virtual Meeting).

Name of Committee: Board of Scientific Counselors of the NIH Clinical Center.

Date: April 25, 2023.

Time: 10:00 a.m. to 12:30 p.m.

Agenda: Department of Bioethics Presentations, Interviews and other business of the Board.

Place: Clinical Center, 10 Center Drive, Bethesda, MD 20892 (Virtual Meeting).

Contact Person: Ronald Neumann, MD, Deputy Science Director, Clinical Center, National Institutes of Health, 10 Center Drive, Bethesda, MD 20892, 301-496-6455, rneumann@cc.nih.gov.

Any interested person may file written comments with the committee by forwarding the statement to the Contact Person listed on this notice. The statement should include the name, address, telephone number and when applicable, the business or professional affiliation of the interested person.

Dated: March 6, 2023.
Patricia B. Hansberger,
Deputy Director, Office of Federal Advisory Committee Policy.

[FR Doc. 2023-04885 Filed 3-9-23; 8:45 am]

BILLING CODE 4140-01-P